Presidential Determination No. 2001-15 of May 11, 2001

Cooperation by Vietnam in Accounting for United States Prisoners of War and Missing in Action

Memorandum for the Secretary of State

As provided under section 610 of the Departments of Commerce, Justice, and State, the Judiciary and Other Independent Agencies Appropriations Act, 2001, as contained in the Consolidated Appropriations Act for FY 2001, Public Law 196-553, I hereby determine, based on all information available to the United States Government, that the Government of the Socialist Republic of Vietnam is fully cooperating in good faith with the United States in the following four areas related to achieving the fullest possible accounting for Americans unaccounted for as a result of the Vietnam War:

1)

resolving discrepancy cases, live sightings, and field activities;

2)

recovering and repatriating American remains;

3)

accelerating efforts to provide documents that will help lead to the fullest possible accounting of POW/MIAs; and,

4)

providing further assistance in implementing trilateral investigations with Laos.

I further determine that the appropriate laboratories associated with POW/MIA accounting are thoroughly analyzing remains, material, and other information and fulfilling their responsibilities as set forth in subsection (B) of section 610, and information pertaining to this accounting is being made available to immediate family members in compliance with 50 U.S.C. 435 note.

I have been advised and believe that section 610 is unconstitutional because it purports to use a condition on appropriations as a means to direct my execution of responsibilities that the Constitution commits exclusively to the President. I am providing this determination as a matter of comity, while reserving the position that the condition enacted in section 610 is unconstitutional.

In making this determination, I have taken into account all information available to the United States Government as reported to me, the full range of ongoing accounting activities in Vietnam, including joint and unilateral Vietnamese efforts, and the concrete results we have attained as a result.

Finally, in making this determination, I wish to reaffirm my continuing personal commitment to the entire POW/MIA community, especially to the immediate families, relatives, friends, and supporters of these brave individuals, and to reconfirm that the central, guiding principle of my Vietnam policy is to achieve the fullest possible accounting of our prisoners of war and missing in action.

You are authorized and directed to report this determination to the appropriate committees of the Congress and to publish it in the Federal Register.

B

THE WHITE HOUSE,

Washington, May 11, 2001.

[FR Doc. 01-12848

Filed 5-18-01; 8:45 am]

Billing code 4710-10-M